DEPARTMENT OF ENERGY

Federal Energy Regulatory Commission

[Project No. 2342-011]

PacifiCorp; Notice Clarifying Comment Deadline for Offer of Settlement and Application for Amendment of License

The Commission's Notice of Offer of Settlement and Application for Amendment of License, issued February 2, 2000, in this proceeding, set a deadline for filing comments and or motions in Project No. P-2342-011 of March 15, 2000, or 45 days after the filing of the PacifiCorp's Removal Plan with the Commission, whichever occurs later. On February 11, 2000, PacifiCorp filed the Removal Plan. Accordingly, the deadline for filing comments and or motions in Project No. P-2342-011 is now March 27, 2000.

David P. Boergers,
Secretary

[FR Doc. 00-6302 Filed 3-14-00; 8:45 am]

BILLING CODE 6717-01-M